FEDERAL COMMUNICATIONS COMMISSION

Public Information Collections Approved by Office of Management and Budget

November 20, 2003.

SUMMARY: The Federal Communications Commission (FCC) has received Office of Management and Budget (OMB) approval for the following public information collections pursuant to the Paperwork Reduction Act of 1995, Pub. L. 104-13. An agency may not conduct or sponsor and a person is not required to respond to a collection of information unless it displays a currently valid control number.

FOR FURTHER INFORMATION CONTACT: Paul J. Laurenzano, Federal Communications Commission, 445 12th Street, SW, Washington DC 20554, (202) 418-1359 or via the Internet at plaurenz@fcc.gov.

SUPPLEMENTARY INFORMATION: OMB Control No.: 3060-1046.

OMB Approval date: 11/14/2003.

Expiration Date: 04/30/2004.

Title: Implementation of the Pay Telephone Reclassification and Compensation Provisions of the Telecommunication Act of 1996, CC Docket No. 96-128, Report and Order and Second Order on Reconsideration.

Form No.: N/A.

Estimated Annual Burden: 3,048 responses; 609,600 total annual hours; 200 hours per respondent.

Needs and Uses: The Commission has issued a Report and Order (CC Docket 96-128/ FCC 03-235). In this proceeding, final rules are adopted that alter current payphone compensation rules. The new rules place the liability to compensate payphone service providers (PSPs) for payphone-originated calls on the facilities-based long distance carriers from whose switches such calls are completed. The new rules will not take effect immediately. Accordingly, the Order adopts, on an interim basis, the rules initially adopted in the Second Order on Reconsideration until the new rules become effective. The interim rules have received OMB approval as of 11/14/2003 and are now effective, but the final rules have not yet received OMB approval. The Commission will publish another Federal Register notice when it seeks OMB approval of the final rules.

OMB Control No.: 3060-0710.

OMB Approval date: 10/21/2003.

Expiration Date: 10/31/2006.

Title: Policy and Rules Concerning the Implementation of the Local Competiton Provisions in the Telecommunications Act of 1996—CC Docket No. 96-98.

Form No.: N/A.

Estimated Annual Burden: 1,052,693 responses; 1,134,050 total annual hours; approximately 1-2 hours per respondent.

Needs and Uses: The Commission adopted rules and regulations to implement parts of Sections 251 and 252 that affect local competition. Incumbent local exchange carriers (LECs) are required to offer interconnection, unbundled network elements, transport and termination, and wholesale rates for certain services to new entrants. Incumbent LECs must price such services at rates that are cost-based and just and reasonable and provide access to right-of-way as well as establish reciprocal compensation arrangements for the transport and termination of telecommunications traffic.

OMB Control No.: 3060-0921.

OMB Approval date: 10/21/2003.

Expiration Date: 10/31/2006.

Title: Petitions for LATA Boundary Modification for the Deployment of Advanced Services.

Form No.: N/A.

Estimated Annual Burden: 20 responses; 160 total annual hours; 20 hours per respondent.

Needs and Uses: Bell Operating Companies (BOCs) that petition for LATA boundary modifications to encourage the deployment of advanced service on a reasonable and timely basis are requested to include information in accordance with specified criteria. The Commission will use this information to review the petitions.

Federal Communications Commission.
Marlene H. Dortch,
Secretary.

[FR Doc. 03-29759 Filed 11-28-03; 8:45 am]

BILLING CODE 6712-01-P